POSTAL SERVICE

39 CFR Part 111

New Pallet Height Limitation for Anchorage and Fairbanks, AK

AGENCY: Postal Service.

ACTION: Final rule.

SUMMARY: This final rule amends section M041 of the Domestic Mail Manual (DMM). Due to the limitations of aircraft used to transport mail, the Postal Service is lowering the maximum pallet height from 77 inches to 72 inches for Periodicals, Standard Mail (A), and Standard Mail (B) entered at Anchorage and Fairbanks, Alaska.

EFFECTIVE DATE: November 2, 2000.

FOR FURTHER INFORMATION CONTACT: RoseMarie Gay (202) 268-7810.

SUPPLEMENTARY INFORMATION: Since most Periodicals, Standard Mail (A), and Standard Mail (B) mail for delivery in Alaska is transported by air due to prevailing operating conditions, mail must be prepared to facilitate air transportation. Pallets that are between 72 and 77 inches high do not satisfy this requirement, although heights within this range are currently permitted under Domestic Mail Manual (DMM) standards.

The problem is that pallets between 72 and 77 inches high do not fit through aircraft doors, forcing Alaskan air carriers to re-stack the pallets. To remedy this situation, the Postal Service is lowering the maximum height from 77 inches to 72 inches for mail on pallets (mail and pallet combined) that is entered at Anchorage and Fairbanks, Alaska. The change will allow mail on pallets to be shipped as originally prepared, which will eliminate the risk of mail damage or delay caused by additional handling to load and unload aircraft.

Because the operational circumstances dictating a lower pallet height are not within the control of the Postal Service, the Postal Service finds no need to solicit comments or to delay implementation of the new pallet height specification.

List of Subjects in 39 CFR Part 111

Administrative practice and procedure, Postal Service.

For the reasons discussed above, the Postal Service hereby adopts the following amendments to the Domestic Mail Manual (DMM), which is incorporated by reference in the Code of Federal Regulations (see 39 CFR part 111).

PART 111—[AMENDED]

1. The authority citation for 39 CFR part 111 continues to read as follows:

Authority: 5 U.S.C. 552 (a): 39 U.S.C 101, 401, 403, 404, 414, 3001-3011, 3201-3219, 3403-3406, 3621, 3626, 5001.

2. Amend the Domestic Mail Manual (DMM) as follows:

M Mail Preparation and Sortation

M000 General Preparation Standards

* * * * *

M040 Pallets

* * * * *

M041 General Standards

* * * * *

3.0 STACKING PALLETS

[Amend 3.1f to read as follows:]

3.1 Stacking Up to Four Tiers

Pallets may be stacked two, three, or four tiers high if:

* * * * *

f. The combined height of the stacked pallets and their loads does not exceed 84 inches. Exception: Pallets prepared for entry at Anchorage and Fairbanks, Alaska, may not measure more than 72 inches in height, mail and pallet combined.

* * * * *

5.0 PREPARATION

* * * * *

5.5 Maximum Load

* * * * *

[Add new last sentence to 5.5 to read as follows:]

* * * Exception: A single pallet that is prepared for entry at Anchorage or Fairbanks, Alaska, has a maximum height of 72 inches, mail and pallet combined.

* * * * *

An appropriate amendment to 39 CFR 111 will be published in the Federal Register to reflect these changes.

Stanley F. Mires,
Chief Counsel, Legislative.

[FR Doc. 00-26407 Filed 10-13-00; 8:45 am]

BILLING CODE 7710-12-P